DEPARTMENT OF DEFENSE

Department of the Army; Corps of Engineers

Intent To Prepare an Environmental Impact Statement/Environmental Impact Report for the Proposed South Coast Rail Project, Commonwealth of Massachusetts, Department of the Army Permit Application Number NAE-2007-00698

AGENCY: Department of the Army, U.S. Army Corps of Engineers, DoD.

ACTION: Notice of intent.

SUMMARY: Pursuant to section 102(2)(c) of the National Environmental Policy Act (NEPA) of 1969, as implemented by the Council on Environmental Quality regulations (40 CFR parts 1500-1508), the U.S. Army Corps of Engineers, New England District (Corps) announces its intent to prepare an Environmental Impact Statement (EIS) to evaluate a proposed establishment of passenger rail service between Boston and New Bedford/Fall River, MA. The Massachusetts Executive Office of Transportation and Public Works (EOT) has submitted an application for a Department of the Army permit to discharge fill material into waters of the United States (U.S.), ranging in area from less than one acre to approximately eight acres (depending on the alternative selected), including wetlands, incidental to the establishment of the passenger rail service. The EOT has stated that the purpose of their proposed project is to more fully meet the existing and future demand for public transportation between Fall River/New Bedford and Boston, MA, and to enhance regional mobility, while supporting smart growth planning and development strategies in the affected communities. The cities of Taunton, Fall River, and New Bedford are the only cities within 50 miles of Boston that are not currently served by passenger rail.

The EIS will also be prepared with the intent to serve as a joint Massachusetts Environmental Policy Act (MEPA) and NEPA document that will comply with the procedural requirements of both state and federal law and serve as a combined EIS/Environmental Impact Report (EIR). The MEPA review will be conducted simultaneously with the NEPA process.

The EIS/EIR will evaluate a range of alternative transit routes to determine the Least Environmentally Damaging Practicable Alternative (“LEDPA”), in accordance with the U.S. Environmental Protection Agency Guidelines for Specification of Disposal Sites for Dredged or Fill Material (40 CFR Part 230). Alternative routes presently identified include four principal rail routes: (1) The “Attleboro Alternative”, (2) the “Stoughton Alternative”, (3) the “Middleborough Alternative”, and (4) the “Attleboro-Middleborough Hybrid Alternative”. A fifth alternative is a Rapid Bus Alternative using modified highway infrastructure. A No Build/Transportation Surface Management alternative will also be evaluated. Public scoping may identify other alternatives for evaluation in the EIS/EIR.

DATES: Written comments must be received by: January 9, 2009.

ADDRESSES: Comments can be sent to Mr. Alan Anacheka-Nasemann, U.S. Army Corps of Engineers, New England District, Regulatory Division, ATTN: CENAE-R-PEA, 696 Virginia Road, Concord, MA, or by e-mail to: SCREIS@usace.army.mil.

FOR FURTHER INFORMATION CONTACT: Mr. Alan Anacheka-Nasemann, (978) 318-8214, e-mail: SCREIS@usace.army.mil.

SUPPLEMENTARY INFORMATION: The Massachusetts EOT has submitted an application under Section 404 of the Clean Water Act for a Department of the Army permit to discharge fill material into waters of the U.S. incidental to establishment of passenger rail service between Boston and New Bedford and Fall River, MA, known as the “South Coast Rail Project.” To date, the proposed South Coast Rail Project has been undergoing review and analysis of alternatives in accordance with the Corps' New England District's Highway Methodology. EOT completed a preliminary analysis of alternatives in April 2008, which consisted of investigating, analyzing and screening a number of alternatives. Five alternative transit routes, with mode variations and slight route variations, resulted from the screening process. The “Attleboro Alternative” would expand service via the existing AMTRAK Northeast Corridor, with added capacity, new track and existing freight lines from Attleboro via Norton to Taunton. This route could potentially affect two Commonwealth of Massachusetts Areas of Critical Environmental Concern (ACECs) known as Fowl Meadow/Ponkapoag Bog and the Three-Mile River Watershed, and would also include construction of new track (“Attleboro bypass”), near or over Chartley Pond in the vicinity of an existing National Grid electrical line right-of-way. The “Stoughton Alternative” would extend the existing Stoughton commuter rail line from its current terminus in Stoughton along a presently abandoned right-of-way through Easton and Raynham to Taunton. This would follow an existing railroad grade that crosses Hockomock Swamp, a Massachusetts ACEC. The “Middleborough Alternative” would extend the existing Old Colony commuter rail line through Middleborough to Taunton. Continuation from Taunton to New Bedford would be via an existing freight track via Lakeville and Berkley. The “Attleboro-Middleborough Hybrid Alternative” would extend existing Old Colony commuter rail line through Middleborough to Taunton and add trains to the existing Amtrak Northeast Corridor via Attleboro and along the Attleboro bypass. This alternative could potentially affect Three-Mile River Watershed ACEC. The links between Taunton and New Bedford/Fall River are common to all four rail alternatives. The “Rapid Bus” alternative would involve construction of new Rapid Bus dedicated lanes along existing Massachusetts Highways 24 and 128, and Interstate Highway 93. The No Build/Transportation Surface Management alternative would involve enhancement to existing bus services without infrastructure improvements.

Elements of all of the alternatives proposed at this time by EOT would be located in waters of the U.S. Estimates of surface area impacts range from less than one to approximately eight acres, depending on the alignment. The proposed alternative routes could affect natural resources, including Commonwealth of Massachusetts Wildlife Management Areas and Areas of Critical Environmental Concern. Although there are no Federally listed threatened or endangered species known to be found in the proposed alternative route areas, the Hockomock Swamp ACEC is known to contain at least sixteen species listed as threatened, endangered or species of special concern by the Commonwealth of Massachusetts.

All of the proposed alternative routes would affect historic and cultural resources, including properties eligible for listing on the National Register of Historic Places and historic districts that have cultural importance in the affected communities. Consultation on the extent of the impacts on these resources will be undertaken with the State Historic Preservation Office under Section 106 of the National Historic Preservation Act.

The Corps is seeking participation and input of all interested federal, state and local agencies, Native American groups, and other concerned private organizations or individuals on the scope of the EIS/EIR. Significant issues to be analyzed in depth in the EIS/EIR include: Impacts to waters of the U.S., including vernal pools and other wetlands; cultural resources, threatened and endangered species; transportation; air quality, including greenhouse gas emissions; noise and vibration; surface water and groundwater; hydrology and water quality; and socioeconomic effects.

It is anticipated that the Draft EIS/Draft EIR will be made available to the public in the late spring of 2009.

Two scoping meetings will be held. The meeting dates are: 1. Tuesday, December 2, 2008, 6:30 p.m., University of Massachusetts (U-Mass) Dartmouth, Woodland Commons Building, 285 Old Westport Road, North Dartmouth, MA 02747-2300, Parking is available in lot #7.

2. Wednesday, December 3, 2008, 6:30 p.m., Taunton High School Auditorium, 50 Williams Street, Taunton, MA 02780.

Pre-registration for each meeting will begin at 5:30 p.m. on the dates and locations listed above.

Dated: October 22, 2008.
Lieutenant Colonel Stephen E. Lefebvre,
Deputy District Commander, U.S. Army Corps of Engineers, New England.

[FR Doc. E8-25987 Filed 10-30-08; 8:45 am]

BILLING CODE 3720-58-P